INTERNATIONAL TRADE COMMISSION

[Investigation No. 731-TA-1034 (Remand)]

Certain Color Television Receivers From China

AGENCY: United States International Trade Commission.

ACTION: Notice of request for comments in a remand proceeding concerning an antidumping investigation on certain color television receivers from China.

SUMMARY: The Commission hereby gives notice that it is inviting parties to the referenced proceeding to file comments in the remand proceeding ordered by the United States Court of International Trade (CIT). For further information concerning the conduct of this proceeding and rules of general application, consult the Commission's Rules of Practice and Procedure, part 201, subparts A through E (19 CFR part 201), and part 207, subpart A (19 CFR part 207).

DATES: Effective Date: December 14, 2006.

FOR FURTHER INFORMATION CONTACT: Debra A. Baker (202-205-3180), Office of Investigations, or Marc A. Bernstein (202-205-3087), Office of General Counsel, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record of Investigation No. 731-TA-1034 may be viewed on the Commission's electronic docket (EDIS) at http://edis.usitc.gov.

SUPPLEMENTARY INFORMATION:

Background.—In May 2004, the Commission determined that an industry in the United States was materially injured by reason of certain color television receivers (CTVs) from China. Sichuan Changhong Electric Co. (Changhong) subsequently instituted an action at the CIT challenging the Commission's determination.

The CIT issued an opinion in the matter on November 15, 2006. Sichuan Changhong Electric Co. v. United States, Ct. No. 04-00266, Slip Op. 06-168 (Ct. Int'l Trade Nov. 15, 2006). In its opinion, the CIT rejected all arguments asserted by plaintiff Changhong, but remanded the matter to the Commission for explanation and possible modification concerning the “specific causation determination” requirements imposed by the U.S. Court of Appeals for the Federal Circuit in Bratsk Aluminum Smelter v. United States, 444 F.3d 1369 (Fed. Cir. 2006) and Caribbean Ispat, Ltd. v. United States, 450 F.3d 1336 (Fed. Cir. 2006).

Participation in the proceeding.—Only those persons who were interested parties to the original investigation (i.e., persons listed on the Commission Secretary's service list) and were parties to the appeal may participate in the remand proceeding. Such persons need not make any additional filings with the Commission to participate in the remand proceeding. References to business proprietary information (“BPI”) during the remand proceeding will be governed, as appropriate, by the administrative protective order issued in the original investigation.

Written Submissions.—The Commission is not reopening the record in this proceeding for submission of new factual information. The Commission will, however, permit the parties to file comments pertaining to the inquiries that are the subject of the CIT's remand instructions. Comments shall be limited to no more than twenty (20) double-spaced and single-sided pages of textual material. The parties may not submit any new factual information and may not address any issue other than the applicability of the Bratsk and Ispat decisions to this investigation, whether the Commission's causation analysis in the original investigations complies with the requirements the Federal Circuit articulated in those two decisions, and what, if any, modifications must be made to the Commission's causation analysis to put it into conformance with the requirements articulated in those decisions. Any such comments must be filed with the Commission no later than January 8, 2007.

All written submissions must conform with the provisions of section 201.8 of the Commission's rules; any submissions that contain BPI must also conform with the requirements of sections 201.6, 207.3, and 207.7 of the Commission's rules. The Commission's rules do not authorize filing of submissions with the Secretary by facsimile or electronic means, except to the extent permitted by section 201.8 of the Commission's rules, as amended, 67 FR 68036 (November 8, 2002).

In accordance with sections 201.16(c) and 207.3 of the Commission's rules, each document filed by a party to the investigation must be served on all other parties to the investigation (as identified by either the public or BPI service list), and a certificate of service must be timely filed. The Secretary will not accept a document for filing without a certificate of service.

Parties are also advised to consult the Commission's Rules of Practice and Procedure, part 201, subparts A through E (19 CFR part 201), and part 207, subpart A (19 CFR part 207) for provisions of general applicability concerning written submissions to the Commission.

By order of the Commission.
Issued: December 15, 2006.
Marilyn R. Abbott,
Secretary to the Commission.

[FR Doc. E6-21747 Filed 12-19-06; 8:45 am]

BILLING CODE 7020-02-P